NATIONAL AERONAUTICS AND SPACE ADMINISTRATION

[Notice (04-058)]

NASA Advisory Council, Biological and Physical Research Advisory Committee Meeting

AGENCY: National Aeronautics and Space Administration.

ACTION: Notice of meeting.

SUMMARY: In accordance with the Federal Advisory Committee Act, Public Law 92-463, as amended, the National Aeronautics and Space Administration announces a meeting of the NASA Advisory Council, Biological and Physical Research Advisory Committee.

DATES: Thursday, May 20, 2004, from 9 a.m. until 6 p.m. and Friday, May 21, 2003 from 8 a.m. until 12 Noon.

ADDRESSES: NASA Headquarters, 300 E Street SW., Room 6H46, Washington, DC 20546.

FOR FURTHER INFORMATION CONTACT: Dr. Louis Ostrach, Code UF, National Aeronautics and Space Administration, Washington, DC 20546, (202) 358-0870.

SUPPLEMENTARY INFORMATION: The meeting will be open to the public up to the seating capacity of the meeting room. The agenda for the meeting is as follows:

—Review Recommendations

—Program Overview

—Advisory Committee Restructuring

—Division Reports

—International Space Station Utilization Update

Attendees will be requested to sign a register and to comply with NASA security requirements, including the presentation of a valid picture ID, before receiving an access badge. Foreign nationals attending this meeting will be required to provide the following information: Full name; gender; date/place of birth; citizenship; visa/green card information (number, type, expiration date); employer/affiliation information (name of institution, address, county, phone); and title/position of attendee. To expedite admittance, attendees can provide identifying information in advance by contacting Dr. Louis Ostrach via e-mail at louis.h.ostrach@nasa.gov or by telephone at (202) 358-0870. Persons with disabilities who require assistance should indicate this. It is imperative that the meeting be held on this date to accommodate the scheduling priorities of the key participants.

R. Andrew Falcon,
Advisory Committee Management Officer, National Aeronautics and Space Administration.

[FR Doc. 04-9817 Filed 4-29-04; 8:45 am]

BILLING CODE 7510-01-P